FEDERAL COMMUNICATIONS COMMISSION

Notice of Public Information Collection(s) Being Reviewed by the Federal Communications Commission

November 24, 2003.

SUMMARY: The Federal Communications Commission, as part of its continuing effort to reduce paperwork burden invites the general public and other Federal agencies to take this opportunity to comment on the following information collection(s), as required by the Paperwork Reduction Act of 1995, Pub. L. No. 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before January 2, 2004. If you anticipate that you will be submitting comments, but find it difficult to do so within the period of time allowed by this notice, you should advise the contact listed below as soon as possible.

ADDRESSES: Direct all comments regarding this Paperwork Reduction Act submission to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0093.

Title: Application for Renewal of Radio Station License for Multipoint Distribution Service.

Form No: FCC Form 405.

Type of Review: Revision of a currently approved collection.

Respondents: Business or other for-profit.

Number of Respondents: 2,494.

Estimated Time Per Response: 2.25 hours.

Frequency of Response: On occasion reporting requirement.

Total Annual Burden: 5,612 hours.

Total Annual Cost: $1,048,000.

Needs and Uses: FCC Form 405 is now being used by Multipoint Distribution Service (MDS) to apply for renewal of radio station licenses at the FCC. As a result of the Schedule S rulemaking, earth stations will file the new FCC Form 312-R in lieu of the FCC Form 405 to request renewals of their licenses. The FCC Form 312-R contains all of the data elements of the currently approved FCC Form 405. However, the name was changed to identify that the form is filed by earth station licenses for license renewals only. Additionally, the FCC Form 312-R is filed on the International Bureau Filing System (IBFS). The FCC Form 405 is available on the electronic Broadcast Licensing System (BLS) utilized by licensees and/or by the Wireless Telecommunications Bureau staff.

OMB Control No.: 3060-0292.

Title: Part 69—Access Charges.

Form No: N/A.

Type of Review: Extension of a currently approved collection.

Respondents: Business or other for-profit.

Number of Respondents: 1,458 respondents; 5,832 responses.

Estimated Time Per Response: .75-5 hours.

Frequency of Response: On occasion, monthly, annual, semi-annual, and biennial reporting requirements and third party disclosure requirement.

Total Annual Burden: 27,702 hours.

Total Annual Cost: N/A.

Needs and Uses: Part 69 of the Commission's rules and regulations establishes the rules for access charges for interstate or foreign access provided by telephone companies. Local telephone companies and states are required to submit information to the Commission and/or the National Exchange Carrier Association (NECA). The information is used to compute changes in tariffs for access service (or origination and termination) and to computer revenue pool distributions.

Federal Communications Commission.
Marlene H. Dortch,
Secretary.

[FR Doc. 03-30005 Filed 12-1-03; 8:45 am]

BILLING CODE 6712-01-P